DEPARTMENT OF HOMELAND SECURITY

Federal Emergency Management Agency

44 CFR Part 67

[Docket No. FEMA-B-7759]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having an effect in order to qualify or remain qualified for participation in the National Flood Insurance Program (NFIP). In addition, these elevations, once finalized, will be used by insurance agents, and others to calculate appropriate flood insurance premium rates for new buildings and the contents in those buildings.

DATES: Comments are to be submitted on or before April 23, 2008.

ADDRESSES: The corresponding preliminary Flood Insurance Rate Map (FIRM) for the proposed BFEs for each community are available for inspection at the community's map repository. The respective addresses are listed in the table below.

You may submit comments, identified by Docket No. FEMA-B-7759, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground: Existing | * Elevation in feet (NGVD) + Elevation in feet (NAVD) # Depth in feet above ground: Modified
City of Jackson, Missouri
Missouri | City of Jackson | Goose Creek | Confluence with Hubble Creek | +399 | +401
|  |  | Approximately 2.44 miles upstream of East Main Street | None | +476
| City of Jackson | Hubble Creek | Confluence with Goose Creek | +399 | +400
|  |  | Missouri State Route Y | None | +474
| City of Jackson | Neal Creek | Confluence with Goose Creek | +427 | +428
|  |  | Approximately 0.60 mile upstream of Woodland Drive | None | +472
| City of Jackson | Ramsey Branch | Approximately 1.51 miles upstream of Hoppers Road | None | +474
|  |  | Approximately 1.62 miles upstream of Hoppers Road | None | +477
| City of Jackson | Rocky Branch | 0.21 miles upstream of confluence with Hubble Creek at South Farmington Road | +405 | +406
|  |  | Approximately 130 feet upstream of North Farmington Road | None | +470
| City of Jackson | Rocky Branch West Fork | Confluence with Rocky Branch | None | +410
|  |  | Approximately 260 feet upstream of Old Toll Road | None | +446
| City of Jackson | West Fork of Williams Creek | Confluence with Williams Creek | None | +419
|  |  | Approximately 230 feet upstream of Old Cape Road | None | +437
| City of Jackson | Williams Creek | Approximately 0.39 miles downstream of Highway 61 | +416 | +414
|  |  | Approximately 0.19 miles upstream of Bainbridge Road | +438 | +441
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Jackson
Maps are available for inspection at 101 Court Street, Jackson, MO 63755.

Flooding source(s) | Location of referenced elevation ** | * Elevation in feet (NGVD) + Elevation in feet (NAVD) # Depth in feet above ground: Effective | * Elevation in feet (NGVD) + Elevation in feet (NAVD) # Depth in feet above ground: Modified | Communities affected
Autauga County, Alabama, and Incorporated Areas
Autauga Creek | 365 feet southwest of the intersection of First Street and Chestnut St. (Landward of Levee along Autauga Creek) | +184 | +180 | City of Prattville.
| 300 feet northwest of the intersection of Lower Kingston Road and Sixth St. (Landward of Levee along Autauga Creek) | +184 | +196
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Prattville
Maps are available for inspection at 101 W. Main Street, Prattville, AL 36067.
Lafayette Parish, Louisiana, and Incorporated Areas
Acadiana Coulee | At the confluence with Vermillion River | +15 | +16 | Unincorporated Areas of Lafayette Parish, City of Lafayette.
| Approximately 1800 feet Upstream of Guidry Road | +27 | +26
| At the confluence with Vermillion River | +15 | +16 | City of Lafayette, Unincorporated Areas of Lafayette Parish.
| Approximately 1189 feet upstream from intersection with Guidry Road | +27 | +25
Bayou Carencro | Confluence with Vermillion River | +23 | +22 | Unincorporated Areas of Lafayette Parish.
| Intersection with Billeaux Road | None | +42
Bayou Parc Perdue | Approximately 5445 feet downstream of Chemin Agreable (Parish Boundary) | None | +17 | Town of Youngsville, Unincorporated Areas of Lafayette Parish.
| Confluence with Isaac Verot Coulee Lateral 3 | None | +25
Bayou Que De Tortue | Approximately 11500 feet downstream of SH 35 | None | +17 | Town of Duson, Unincorporated Areas of Lafayette Parish.
| Intersection of Whitmore Road | None | +37
Beau Basin Coulee | Confluence with Vermillion River | None | +20 | Unincorporated Areas of Lafayette Parish, Town of Carencro.
| Intersection with Highway 49 | +40 | +49
Broadmoor Coulee | Confluence with Vermillion River | None | +16 | City of Lafayette.
| At the intersection with Ambassader Caffery Parkway | None | +26
Coulee Ile Des Cannes Lateral 1 | At the confluence with Coulee Ile Des Cannes | None | +19 | Unincorporated Areas of Lafayette Parish.
| Approximately 3,700 feet upstream of S. Fieldspan Road | None | +28
Lateral 3 | Approximately 4,950 feet upstream from the confluence with Coulee Ile Des Cannes | +29 | +28 | City of Scott, City of Lafayette, Unincorporated Areas of Lafayette Parish.
| Approximately 500 feet upstream of Mills Road | +36 | +35
Coulee Fortune North | At the confluence with Vermilion River (Storage area) | +18 | +15 | Town of Broussard, Unincorporated Areas of Lafayette Parish.
| Approximately 4,000 feet Upstream of S. Morgan Street | +30 | +27
Coulee Fortune South | Approximately 700 feet downstream of U.S. HWY 90 East (Parish Boundary) | None | +20 | Town of Broussard, Unincorporated Areas of Lafayette Parish.
| Approximately 3,000 feet upstream of Heart D. Farm Road | None | +27
Coulee Ile Des Cannes | At the confluence with Vermilion River | None | +16 | City of Scott, City of Lafayette, Unincorporated Areas of Lafayette Parish.
| Approximately 2,800 feet upstream of Cocodrill Road | None | +39
Lateral 2 | At the confluence with Coulee Ile Des Cannes | +25 | +24 | Unincorporated Areas of Lafayette Parish, City of Lafayette, City of Scott.
| Approximately 6,700 feet upstream of Ridge Road | +30 | +29
Coulee LaSalle | At the parish boundary line | None | +24 | Unincorporated Areas of Lafayette Parish.
| 4,800 feet upstream of Cane Brake Road | None | +25
Coulee Lantier | At the confluence with Vermillion River | None | +22 | Unincorporated Areas of Lafayette Parish.
| 1600 feet upstream of Magellan Road | None | +22
| Confluence with Vermillion River | None | +20
| Approximately 1600 feet upstream of Magellan Road | None | +21
Coulee Mine | At the confluence with Vermillion River | +16 | +17 | City of Scott, City of Lafayette.
| At the intersection with Malapart Road | None | +46
Lateral 1 (West Channel) | At the confluence with Coulee Mine | +29 | +25 | City of Lafayette, Unincorporated Areas of Lafayette Parish.
| At Renaud Drive | +37 | +38
Dan Dabaillion Coulee | At the confluence with Vermillion River | +17 | +19 | City of Lafayette, Town of Carencro.
| At Guidry Lane | None | +49
Darby Coulee | At the confluence with Vermillion River | None | +14 | Unincorporated Areas of Lafayette Parish.
| At the intersection of LA 339 | None | +19
Edith Coulee | At the confluence with Vermillion River | None | +15 | Unincorporated Areas of Lafayette Parish.
| At the intersection with LA 733 | None | +21
Grand Avenue Coulee | At the confluence with Vermillion River | +15 | +16 | City of Lafayette.
| At the Crawford Street crossing | +30 | +29
IDC—Lateral 4 | At the confluence with Coulee Ile Des Cannes | None | +27 | Unincorporated Areas of Lafayette Parish.
| 3,500 feet upstream of Darceneaux Road | None | +34
Isaac Verot Coulee—Lateral 3 | At the confluence with Isaac Verot Coulee | None | +26 | Unincorporated Areas of Lafayette Parish, Town of Broussard, Town of Youngsville.
| Approximately 2,100 feet upstream of Serenity Road | None | +29
Lateral 2 | At the confluence with the Vermillion River | +15 | +16 | City of Lafayette, Unincorporated Areas of Lafayette Parish.
| At the intersection with Highway 89 | None | +36
Lateral 2A | At the confluence with IVC/Lateral 2 | None | +28 | City of Lafayette, Unincorporated Areas of Lafayette Parish.
| 800 feet upstream of the intersection with Becky Lane | None | +30
Lateral 3 | At the confluence with Isaac Verot Coulee | None | +26 | Unincorporated Areas of Lafayette Parish.
| Approximately 250 feet from the intersection with Bonin Road | None | +29
Jupiter Street Coulee | At the confluence with Webb Coulee | +30 | +27 | City of Lafayette, Unincorporated Areas of Lafayette Parish.
| At the intersection with the Southern Pacific Railroad | +40 | +39
Manor Park Coulee | Confluence with Vermillion River (BFE REMAINS CONSTANT) | +18 | +19 | Unincorporated Areas of Lafayette Parish, City of Lafayette.
| Approximately 3,600 feet upstream of Parklane Rd (BFE REMAINS CONSTANT) | +18 | +19
Pont Brule Coulee | Approximately 4,330 feet downstream of State Highway 726 (Parish Boundary) (BFE REMAINS CONSTANT) | +22 | +21 | Unincorporated Areas of Lafayette Parish.
| Approximately 3,000 feet upstream of State Highway 726 (BFE REMAINS CONSTANT) | +22 | +21
Vermillion River | At the southern parish boundary line | +14 | +15 | Unincorporated Areas of Lafayette Parish.
| At the northern parish boundary line | +22 | +21
Webb Coulee (Lower Reach) | At the confluence with Vermillion River | +15 | +16 | Unincorporated Areas of Lafayette Parish.
| At the confluence with Jupiter Street Coulee | +30 | +27
West Coulee Mine | At the confluence with Coulee Mine | +36 | +35 | City of Lafayette, City of Scott, Unincorporated Areas of Lafayette Parish.
| Approximately 6,800 feet upstream of Interstate 10 | +36 | +37
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Lafayette
Maps are available for inspection at 705 W. University Ave., Lafayette, LA 70506.
City of Scott
Maps are available for inspection at 445 Lions Club Rd., Scott, LA 70583.
Town of Broussard
Maps are available for inspection at 416 East Main St., Broussard, LA 70518.
Town of Carencro
Maps are available for inspection at 210 East Saint Peter St., Carencro, LA 70520.
Town of Duson
Maps are available for inspection at 806 First St., Duson, LA 70529.
Town of Youngsville
Maps are available for inspection at 305 Iberia St., Youngsville, LA 70592.
Unincorporated Areas of Lafayette Parish
Maps are available for inspection at 101 East Cypress, Lafayette, LA 70501.
Benton County, Missouri, and Incorporated Areas
Lake of the Ozarks (Osage River and tributaries) | At confluence with Big Buffalo Creek | None | +666 | City of Warsaw, Unincorporated Areas of Benton County.
| At confluence with Cole Camp Creek | None | +667
| At U.S. Highway 65 | +667 | +669
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Warsaw
Maps are available for inspection at City Office, 181 W. Harrison, Warsaw, MO 65355.
Unincorporated Areas of Benton County
Maps are available for inspection at County Office, 316 Van Buren, Warsaw, MO 65355.
Miller County, Missouri, and Incorporated Areas
Grand Glaize Creek | Approximately 1 mile downstream of County Road 42-18 | None | +672 | Unincorporated Areas of Miller County.
| Approximately 3,000 feet upstream of County Road 42-18 | None | +680
Lake of the Ozarks (Osage River and tributaries) | At Bagnell Dam | None | +664 | City of Lake Ozark, Town of Lakeside, Unincorporated Areas of Miller County.
| Approximately 1 mile upstream of Bagnell Dam | None | +664
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Lake Ozark
Maps are available for inspection at City Office, 2624 Bagnell Dam Boulevard, Lake Ozark, MO 65049.
Town of Lakeside
Maps are available for inspection at Ameran UE, 617 River Road, Lake Ozark, MO 65049.
Unincorporated Areas of Miller County
Maps are available for inspection at County Office, 2001 Highway 52, Tuscumbia, MO 65082.
Morgan County, Missouri, and Incorporated Areas
Gravois Creek | At confluence with Osage River | None | +664 | Town of Gravois Mills, Unincorporated Areas of Morgan County.
| Approximately 1400 feet upstream of Route TT | None | +667
Lake of the Ozarks (Osage River and tributaries) | At confluence with Gravois Creek | None | +664 | Town of Gravois Mills, Unincorporated Areas of Morgan County.
| At confluence with Little Buffalo Creek | None | +665
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Gravois Mills
Maps are available for inspection at City Office, 154 Highway 5, Gravois Mills, MO 65037.
Unincorporated Areas of Morgan County
Maps are available for inspection at County Office, 100 East Newton, Versailles, MO 65084.
Douglas County, Nebraska, and Incorporated Areas
Hell Creek | Approximately 50 feet upstream of Harrison Street | +1055 | +1052 | Village of Boys Town, City of Omaha.
| At I Street | +1101 | +1098
| Just upstream of Pacific Street | None | +1166
North Branch West Papillion Creek | Approximately 250 feet upstream of Blondo Street | +1118 | +1117 | Unincorporated Areas of Douglas County, City of Omaha.
| At Ida Street | +1164 | +1165
| At North 186th Street | None | +1191
West Papillion Creek | Approximately 1200 feet upstream of Interstate 80 | +1044 | +1045 | City of Omaha.
| At U.S. Highway 6 (West Dodge Road) | +1105 | +1106
| At NE Highway 64 (West Maple Road) | +1184 | +1182
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Omaha
Maps are available for inspection at City Hall, 1819 Farnam Street, Omaha, NE 68183.
Unincorporated Areas of Douglas County
Maps are available for inspection at Douglas County Courthouse, 3015 Menke Circle, Omaha, NE 68134.
Village of Boys Town
Maps are available for inspection at Village of Boys Town, 14100 Crawford Street, Boys Town, NE 68010.
Sarpy County, Nebraska, and Incorporated Areas
Hell Creek | 100 feet downstream of the Burlington Northern Santa Fe Railroad | +1034 | +1038 | City of La Vista.
| 150 feet upstream of the Burlington Northern Santa Fe Railroad | +1053 | +1039
| Approximately 50 feet downstream of Harrison Street | +1055 | +1049
Midland Creek | Approximately 700 feet downstream of Cedardale Drive | +1012 | +1011 | City of Papillion, Unincorporated Areas of Sarpy County.
| 450 feet downstream of State Highway 370 | +1025 | +1018
South Papillion Creek | Approximately 300 feet upstream of Giles Street | None | +1036 | Unincorporated Areas of Sarpy County, City of La Vista.
| At South 168th Street | None | +1100
| Approximately 300 feet upstream of South 204th Street | None | +1177
Unnamed Tributary of South Papillion Creek | Approximately 1000 feet upstream of confluence with South Papillion Creek | None | +1042 | Unincorporated Areas of Sarpy County, City of La Vista, City of Papillion.
| At Cornhuskers Road | None | +1056
| At State Highway 370 | None | +1104
Unnamed Tributary of West Papillion Creek | Approximately 1600 feet downstream of South 114th Street | None | +1034 | City of Papillion, City of La Vista.
| Approximately 600 feet downstream of State Highway 370 | None | +1100
| Approximately 1 mile upstream of State Highway 370 | None | +1158
Walnut Creek | At West Lincoln Street | +1026 | +1023 | City of Papillion.
| 150 feet upstream of State Highway 370 | +1044 | +1043
West Papillion Creek (with levees) | Just downstream of South 48th Street | +996 | +999 | City of Bellevue, City of La Vista, City of Papillion.
| Just upstream of South 66th Street | +1004 | +1007
| At Interstate 80 | +1042 | +1043
West Papillion Creek (without left levee) | Just downstream of South 48th Street | +993 | +999 | City of Bellevue, City of La Vista, City of Papillion.
| Just upstream of South 66th Street | +1001 | +1008
| Just upstream of Washington Street | +1008 | +1015
West Papillion Creek (without right levee) | Just downstream of South 48th Street | +997 | +999 | City of Bellevue, City of La Vista, City of Papillion.
| Just upstream of South 66th Street | +1003 | +1008
| Just upstream of Washington Street | +1012 | +1014
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bellevue
Maps are available for inspection at 210 West Mission Avenue, Bellevue, NE 68005.
City of La Vista
Maps are available for inspection at 8116 Park View Boulevard, La Vista, NE 68128.
City of Papillion
Maps are available for inspection at 122 East 3rd Street, Papillion, NE 68046.
Unincorporated Areas of Sarpy County
Maps are available for inspection at Sarpy County Courthouse, 1210 Golden Gate Drive, Papillion, NE 68046.
Northampton County, North Carolina, and Incorporated Areas
Ahoskie Creek | Approximately 500 feet downstream of the Northampton/Hertford County boundary | None | +58 | Unincorporated Areas of Northampton County.
| Approximately 50 feet downstream of Tyler Road (State Road 1100) | None | +66
| At the confluence with Ahoskie Creek | None | +60 | Tributary 8 | Unincorporated Areas of Northampton County.
| Approximately 0.5 mile upstream of the confluence with Ahoskie Creek | None | +62
Bear Swamp | At the confluence with Urahaw Swamp | None | +51 | Unincorporated Areas of Northampton County.
| Approximately 0.9 mile upstream of NC 305 Highway | None | +78
Beaverpond Creek | At the confluence with Beaverpond Creek Tributary 1 | None | +98 | Unincorporated Areas of Northampton County.
| Approximately 0.8 mile upstream of the North Carolina/Virginia State boundary | None | +216
Tributary 1 | At the confluence with Beaverpond Creek | None | +98 | Unincorporated Areas of Northampton County.
| Approximately 0.5 mile upstream of the confluence with Beaverpond Creek | None | +111
Tributary 2 | At the confluence with Beaverpond Creek | None | +127 | Unincorporated Areas of Northampton County.
| Approximately 0.6 mile upstream of Old Emporia Road (State Road 1209) | None | +150
Corduroy Swamp | At the confluence with Kirby Creek | None | +55 | Unincorporated Areas of Northampton County.
| Approximately 2.1 miles upstream of Mount Carmel Road (State Road 1333) | None | +128
Tributary 1 | At the confluence with Corduroy Swamp | None | +66 | Unincorporated Areas of Northampton County.
| Approximately 0.6 mile upstream of the confluence with Corduroy Swamp | None | +70
Tributary 2 | At the confluence with Corduroy Swamp | None | +71 | Unincorporated Areas of Northampton County.
| Approximately 0.6 mile upstream of the confluence with Corduroy Swamp | None | +78
Tributary 3 | At the confluence with Corduroy Swamp | None | +78 | Unincorporated Areas of Northampton County.
| Approximately 0.9 mile upstream of the confluence with Corduroy Swamp | None | +84
Tributary 4 | At the confluence with Corduroy Swamp | None | +87 | Unincorporated Areas of Northampton County.
| Approximately 0.8 mile upstream of the confluence with Corduroy Swamp | None | +93
Tributary 5 | At the confluence with Corduroy Swamp | None | +89 | Unincorporated Areas of Northampton County.
| Approximately 1.2 miles upstream of the confluence with Corduroy Swamp | None | +98
Tributary 6 | At the confluence with Corduroy Swamp | None | +104 | Unincorporated Areas of Northampton County.
| Approximately 0.4 mile upstream of the confluence with Corduroy Swamp | None | +106
Corwells Millpond | At the confluence with Jacks Swamp | None | +72 | Unincorporated Areas of Northampton County.
| Approximately 1,570 feet upstream of Big Johns Store Road (State Road 1300) | None | +89
Cutawhiskie Creek | At the downstream side of Fennell Road (State Road 1155) | None | +52 | Unincorporated Areas of Northampton County.
| Approximately 1.1 miles upstream of Eagletown Road (State Road 1522) | None | +65
Tributary 3 | Approximately 50 feet downstream of the Northampton/Hertford County boundary | None | +51 | Unincorporated Areas of Northampton County.
| Approximately 0.4 mile upstream of the Northampton/Hertford County boundary | None | +53
Tributary 4 | At the confluence with Cutawhiskie Creek | None | +57 | Unincorporated Areas of Northampton County.
| Approximately 0.7 mile upstream of the confluence with Cutawhiskie Creek | None | +62
Cypress Creek | At the confluence with Meherrin River | None | +45 | Unincorporated Areas of Northampton County.
| Approximately 1.7 miles upstream of Julian Morgan Road | None | +99
Tributary 1 | At the confluence with Cypress Creek | None | +52 | Unincorporated Areas of Northampton County.
| Approximately 1.6 miles upstream of the confluence with Cypress Creek | None | +63
Tributary 2 | At the confluence with Cypress Creek | None | +68 | Unincorporated Areas of Northampton County.
| Approximately 600 feet upstream of NC 186 Highway | None | +87
Tributary 3 | At the confluence with Cypress Creek | None | +70 | Unincorporated Areas of Northampton County.
| Approximately 0.5 mile upstream of the confluence with Cypress Creek | None | +79
Tributary 4 | At the confluence with Cypress Creek | None | +86 | Unincorporated Areas of Northampton County.
| Approximately 1,480 feet upstream of Julian Morgan Road | None | +97
Fountains Creek | At the confluence with Meherrin River | None | +46 | Unincorporated Areas of Northampton County.
| Approximately 4.3 miles upstream of the confluence with Meherrin River | None | +51
Grant Branch | At the confluence with Urahaw Swamp | None | +49 | Unincorporated Areas of Northampton County, Town of Lasker.
| Approximately 1.4 miles upstream of Collier Road (State Road 1515) | None | +74
Hunting Branch | At the confluence with Corduroy Swamp | None | +58 | Unincorporated Areas of Northampton County.
| Approximately 20 feet downstream of Frank Harris Road (State Road 1343) | None | +70
Ivy Creek | At the confluence with Cypress Creek | None | +84 | Unincorporated Areas of Northampton County.
| Approximately 1.2 miles upstream of the confluence with Cypress Creek | None | +89
Jacks Swamp | At the North Carolina/Virginia State boundary | None | +68 | Unincorporated Areas of Northampton County.
| Approximately 710 feet upstream of Interstate 95 (Southbound) | None | +135
Tributary 1 | At the confluence with Jacks Swamp | None | +69 | Unincorporated Areas of Northampton County.
| Approximately 0.7 mile upstream of the confluence with Jacks Swamp | None | +84
Tributary 2 | At the confluence with Jacks Swamp | None | +94 | Unincorporated Areas of Northampton County.
| Approximately 2.0 miles upstream of the confluence with Jacks Swamp | None | +121
Tributary 3 | At the confluence with Jacks Swamp | None | +100 | Unincorporated Areas of Northampton County.
| Approximately 0.9 mile upstream of the confluence with Jacks Swamp | None | +122
Tributary 4 | At the confluence with Jacks Swamp | None | +123 | Unincorporated Areas of Northampton County.
| Approximately 870 feet upstream of Interstate 95 (Southbound) | None | +136
Kirby Creek | At the confluence with Meherrin River | None | +17 | Unincorporated Areas of Northampton County.
| At the confluence of Corduroy Swamp and Rogers Swamp | None | +55
Tributary 1 | At the confluence with Kirby Creek | None | +19 | Unincorporated Areas of Northampton County, Town of Severn.
| Approximately 0.9 mile upstream of NC Highway 35 | None | +60
Tributary 1A | At the confluence with Kirby Creek Tributary 1 | None | +43 | Unincorporated Areas of Northampton County.
| Approximately 0.6 mile upstream of the confluence with Kirby Creek Tributary 1 | None | +51
Tributary 2 | At the confluence with Kirby Creek | None | +44 | Unincorporated Areas of Northampton County, Town of Conway.
| Approximately 1,280 feet upstream of Phillips Hill Road (State Road 1365) | None | +72
Tributary 3 | At the confluence with Kirby Creek | None | +50 | Unincorporated Areas of Northampton County.
| Approximately 80 feet downstream of Barnes Loop Road (State Road 1342) | None | +57
Tributary 4 | At the confluence with Kirby Creek | None | +51 | Unincorporated Areas of Northampton County.
| Approximately 0.5 mile upstream of Barnes Loop Road (State Road 1342) | None | +70
Meherrin River | At the confluence of Kirby Creek | None | +17 | Unincorporated Areas of Northampton County.
| At the confluence of Fountains Creek | None | +46
Occoneechee Creek Tributary 1 | At the confluence with Occoneechee Creek | None | +49 | Unincorporated Areas of Northampton County.
| Approximately 0.9 mile upstream of the confluence with Occoneechee Creek | None | +51
Paddys Delight Creek | At the confluence with Potecasi Creek | None | +50 | Unincorporated Areas of Northampton County.
| Approximately 1.1 miles upstream of the confluence of Paddys Delight Creek Tributary 1 | None | +77
Tributary 1 | At the confluence with Paddys Delight Creek | None | +66 | Unincorporated Areas of Northampton County, Town of Conway.
| Approximately 140 feet downstream of Vann Street | None | +93
Panther Swamp | At the Northampton/Hertford County boundary | None | +49 | Unincorporated Areas of Northampton County.
| Approximately 1.1 miles upstream of Gilmer Ricks Road (State Road 1543) | None | +88
Potecasi Creek | At the Northampton/Hertford County boundary | None | +36 | Unincorporated Areas of Northampton County.
| At the confluences of Ramsey Creek and Wiccacanee Swamp | None | +65
Tributary 13 | At the confluence with Potecasi Creek | None | +55 | Unincorporated Areas of Northampton County.
| Approximately 0.7 mile upstream of the confluence with Potecasi Creek | None | +61
Tributary 14 | At the confluence with Potecasi Creek | None | +57 | Unincorporated Areas of Northampton County.
| Approximately 1,360 feet upstream of Lasker Road (State Road 1503) | None | +71
Tributary 15 | At the confluence with Potecasi Creek | None | +61 | Unincorporated Areas of Northampton County.
| Approximately 100 feet downstream of Fire Tower Road (State Road 1500) | None | +69
Tributary 15A | At the confluence with Potecasi Creek Tributary 15 | None | +63 | Unincorporated Areas of Northampton County.
| Approximately 0.5 mile upstream of the confluence with Potecasi Creek Tributary 15 | None | +73
Tributary 16 | At the confluence with Potecasi Creek | None | +62 | Unincorporated Areas of Northampton County.
| Approximately 0.7 mile upstream of the confluence with Potecasi Creek | None | +71
Tributary 17 | At the confluence with Potecasi Creek | None | +64 | Unincorporated Areas of Northampton County.
| Approximately 0.8 mile upstream of the confluence with Potecasi Creek | None | +74
Tributary 9 | At the confluence with Potecasi Creek | None | +44 | Unincorporated Areas of Northampton County.
| Approximately 1.9 miles upstream of Ashley Grove Road (State Road 1536) | None | +68
Quarter Swamp | At the confluence with Urahaw Swamp | None | +60 | Unincorporated Areas of Northampton County.
| Approximately 1.7 miles upstream of W.J. Duke Service Road (State Road 1121) | None | +81
Ramsey Creek | At the confluence with Potecasi Creek | None | +65 | Unincorporated Areas of Northampton County, Town of Jackson.
| Approximately 580 feet downstream of Buck Howell Road (State Road 1316) | None | +124
Tributary 1 | At the confluence with Ramsey Creek | None | +69 | Unincorporated Areas of Northampton County.
| Approximately 40 feet downstream of NC Highway 305 | None | +79
Reedy Creek | At the confluence with Kirby Creek | None | +34 | Unincorporated Areas of Northampton County.
| Approximately 1,210 feet upstream of U.S. 158 Highway | None | +55
Rogers Swamp | At the confluence with Corduroy Swamp and Kirby Creek | None | +55 | Unincorporated Areas of Northampton County.
| Approximately 840 feet upstream of Tower Road (State Road 1341) | None | +88
Tributary 1 | At the confluence with Rogers Swamp | None | +55 | Unincorporated Areas of Northampton County.
| Approximately 0.9 mile upstream of Britton Road (State Road 1337) | None | +67
Tributary 2 | At the confluence with Rogers Swamp | None | +61 | Unincorporated Areas of Northampton County.
| Approximately 0.5 mile upstream of the confluence with Rogers Swamp | None | +66
Tributary 3 | At the confluence with Rogers Swamp | None | +67 | Unincorporated Areas of Northampton County.
| Approximately 0.7 mile upstream of the confluence with Rogers Swamp | None | +80
Tributary 4 | At the confluence with Rogers Swamp | None | +69 | Unincorporated Areas of Northampton County.
| Approximately 0.6 mile upstream of the confluence with Rogers Swamp | None | +74
Tributary 5 | At the confluence with Rogers Swamp | None | +77 | Unincorporated Areas of Northampton County.
| Approximately 0.7 mile upstream of the confluence with Rogers Swamp | None | +89
Sandy Run Tributary 3 | At the confluence with Sandy Run | None | +37 | Unincorporated Areas of Northampton County.
| Approximately 0.5 mile upstream of the confluence with Sandy Run | None | +46
Turkey Creek | At the confluence with Kirby Creek | None | +17 | Unincorporated Areas of Northampton County.
| Approximately 1,060 feet upstream of U.S. 158 Highway | None | +51
Urahaw Swamp | At the confluence with Potecasi Creek | None | +43 | Unincorporated Areas of Northampton County, Town of Woodland.
| Approximately 1.3 miles upstream of Bryantown Road (State Road 1108) | None | +66
Tributary 4 | At the confluence with Urahaw Swamp | None | +57 | Unincorporated Areas of Northampton County.
| Approximately 1,300 feet upstream of Dick Harmony Road (State Road 1115) | None | +63
Tributary 5 | At the confluence with Urahaw Swamp | None | +64 | Unincorporated Areas of Northampton County.
| Approximately 1.0 mile upstream of W.J. Duke Service Road (State Road 1121) | None | +71
Wiccacanee Swamp | At the confluence with Potecasi Creek | None | +65 | Unincorporated Areas of Northampton County.
| Approximately 1.2 miles upstream of U.S. Highway 158 | None | +107
Wiccacanee Swamp Tributary | At the confluence with Wiccacanee Swamp | None | +69 | Unincorporated Areas of Northampton County.
| Approximately 0.6 mile upstream of the confluence with Wiccacanee Swamp | None | +75
Wildcat Swamp | At the confluence with Potecasi Creek | None | +54 | Unincorporated Areas of Northampton County.
| Approximately 160 feet downstream of U.S. Highway 158 | None | +118
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Conway
Maps are available for inspection at Conway Town Hall, 221 West Main Street, Conway, NC.
Town of Jackson
Maps are available for inspection at Jackson Town Hall, 100 East Jefferson Street, Jackson, NC.
Town of Lasker
Maps are available for inspection at Lasker Town Hall, 203A West Church Street, Lasker, NC.
Town of Severn
Maps are available for inspection at Severn Town Hall, 314 Main Street, Severn, NC.
Town of Woodland
Maps are available for inspection at Woodland Town Hall, 300 Spruce Street, Woodland, NC.
Unincorporated Areas of Northampton County
Maps are available for inspection at Northampton County Office, 108 West Jefferson Street, Jackson, NC.
Cumberland County, Pennsylvania, and Incorporated Areas
Conodoguinet Creek | Approximately 7250 feet upstream of dam | None | +481 | Township of Lower Mifflin, Township of North Newton.
| Approximately 7000 feet upstream of dam | None | +481
Dogwood Run | Approximately 500 feet upstream from intersection of Creek and Williams Grove Road | None | +427 | Township of Monroe.
| Approximately 1400 feet upstream from intersection of Creek and Williams Grove Road | None | +433
Hogestown Run | Approximately 200 feet downstream of Old Stone House Road | None | +443 | Township of Middlesex.
| Approximately at Old Stone House Road | None | +447
Middle Spring Creek | Approximately at the confluence with Conodoguinet Creek | None | +544 | Township of Hopewell.
| Approximately 9590 feet downstream from Hale Road | +546 | +547
Yellow Breeches Creek | Approximately 700 feet downstream of Spangler's Mill Road | None | +333 | Township of Lower Allen.
| Approximately 7100 feet upstream of Spangler's Mill Road | None | +342
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Township of Hopewell
Maps are available for inspection at 14 Hoover Drive, Newburg, PA 17240.
Township of Lower Allen
Maps are available for inspection at 1993 Hummell Avenue, Camp Hill, PA 17011.
Township of Lower Mifflin
Maps are available for inspection at 529 Shed Road, Newville, PA 17241.
Township of Middlesex
Maps are available for inspection at 350 Middlesex Road, Carlisle, PA 17013.
Township of Monroe
Maps are available for inspection at 1220 Boiling Springs, Mechanicsburg, PA 17055.
Township of North Newton
Maps are available for inspection at 255 Ott Road, Shippensburg, PA 17257.
Salt Lake County, Utah, and Incorporated Areas
Midas Creek | Approximately 400 feet upstream of the Confluence with the Jordan River | +4328 | +4325 | City of Riverton, City of South Jordan, Unincorporated Areas of Salt Lake County.
| Just upstream of 11800 South Street | +4569 | +4566
Willow Creek (West) | Just upstream of 11400 South Street | +4365 | +4362 | City of Draper.
| Just downstream of 300 East Street | +4441 | +4442
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Draper
Maps are available for inspection at 1020 East Pioneer Road, Draper, UT 84020.
City of Riverton
Maps are available for inspection at 12830 S. Redwood Road, Riverton, UT 84065.
City of South Jordan
Maps are available for inspection at 1600 West Towne Center Drive, South Jordan, UT 84095.
Unincorporated Areas of Salt Lake County
Maps are available for inspection at 2001 South State Street #N2100, Salt Lake City, UT 84190.

(Catalog of Federal Domestic Assistance No. 97.022, “Flood Insurance.”)

Dated: January 15, 2008.
David I. Maurstad,
Federal Insurance Administrator of the National Flood Insurance Program, Department of Homeland Security, Federal Emergency Management Agency.

[FR Doc. E8-1215 Filed 1-23-08; 8:45 am]

BILLING CODE 9110-12-P